DEPARTMENT OF TRANSPORTATION

Federal Highway Administration

Environmental Impact Statement: Worcester County, MD

AGENCY: Federal Highway Administration (FHWA), DOT.

ACTION: Notice of intent.

SUMMARY: The FHWA is issuing this notice to advise the public that an Environmental Impact Statement will be prepared for a proposed bridge project in Worcester County, Maryland. The purpose of the EIS is to provide information and analyses for decisions on the project in accordance with the policies and purposes of the National Environmental Policy Act.

FOR FURTHER INFORMATION CONTACT: Mr. Daniel W. Johnson, Environmental Program Leader, Federal Highway Administration, City Crescent Building, 10 South Howard Street, Suite 2450, Telephone: (410) 779-7154.

SUPPLEMENTARY INFORMATION: The FHWA, in cooperation with the Maryland State Highway Administration, U.S. Army Corps of Engineers, US Environmental Protection Agency, US Coast Guard, Maryland Department of the Environment, US Fish and Wildlife Service, and National Marine Fisheries Service will prepare an Environmental Impact Statement (EIS) for roadway improvements which address operational inadequacies, safety concerns, and structural deficiencies of the US 50 crossing of the Sinepuxent Bay, Worcester County, MD.

The study will also address the need to safely accommodate the navigational needs of boaters, pedestrian and bicycle traffic, and the recreational needs of fishermen. Pedestrians, fishermen, and cyclists currently share a narrow five-foot sidewalk along the existing bridge, which creates potential conflicts among the various users. Finally, the study will investigate aesthetic enhancements to any crossing representative of a coastal gateway resort.

Alternatives under consideration include taking no action and four build alternatives with various options for a new bridge or bridge reconstruction. Under all of these alternatives, the existing bridge would be retained for possible use by pedestrians, cyclists and fisherman. The bridge is eligible for inclusion in the National Register of Historic Places.

Letters describing the proposed action and soliciting comments will be sent to appropriate Federal, State, and local government agencies, and to private organizations and citizens and citizen groups who have previously expressed or are known to have an interest in this proposal. It is anticipated that a Public Hearing will be held in the Spring of 2008. A Draft EIS will be available for public and agency review and comment prior to the Public Hearing. Public notice will be given of the availability of the Draft EIS for review and of the time and place of the hearing. A Scoping Meeting was held in March of 2005, and Open House Public Workshops were held in Ocean City in June and October of 2005, June of 2006 and May/June of 2007, to solicit opinions and ideas on proposed improvements from local citizens.

To ensure that the full range of issues related to this proposed action are addressed and all significant issues identified, comments and suggestions are invited from all interested parties. Comments or questions concerning these proposed action and EIS should be directed to the FHWA at the address provided above.

(Catalog of Federal Domestic Assistance Program Number 20.205, Highway Research, Planning and Construction. The regulation implementing Executive Order 12372 regarding intergovernmental consultation of Federal programs and activities apply to this program).

Issued on: November 5, 2007.
Daniel W. Johnson,
Environmental Program Leader, Baltimore, Maryland.

[FR Doc. 07-5599 Filed 11-8-07; 8:45 am]

BILLING CODE 4910-22-M